DEPARTMENT OF COMMERCE

International Trade Administration

[A-570-920]

Lightweight Thermal Paper From the People's Republic of China: Final Results of Expedited First Sunset Review of the Antidumping Duty Order

AGENCY: Enforcement and Compliance, formerly Import Administration, International Trade Administration, Department of Commerce.

SUMMARY: On October 1, 2013, the Department of Commerce (the Department) initiated the first five-year (sunset) review of the antidumping duty order on lightweight thermal paper from the People's Republic of China (PRC) pursuant to section 751(c) of the Tariff Act of 1930, as amended (the Act).¹ As a result of this sunset review, the Department finds that revocation of the antidumping duty order on lightweight thermal paper from the PRC would likely lead to continuation or recurrence of dumping at the levels indicated in the “Final Results of Review” section of this notice.

¹ See Initiation of Five-Year (“Sunset”) Review, 78 FR 60253 (October 1, 2013); see also Antidumping Duty Orders: Lightweight Thermal Paper From Germany and the People's Republic of China, 73 FR 70959 (November 24, 2008) (AD Order).

DATES: Effective Date: February 21, 2014.

FOR FURTHER INFORMATION CONTACT: David Goldberger, AD/CVD Operations, Office II, Enforcement and Compliance, International Trade Administration, U.S. Department of Commerce, 14th Street and Constitution Avenue NW., Washington, DC 20230; telephone: 202-482-4136.

SUPPLEMENTARY INFORMATION:

Background

On October 28, 2013, the Department received a notice of intent to participate from Appvion, Inc. (Appvion),² a domestic interested party, within the 15-day deadline specified in 19 CFR 351.218(d)(1)(i). On November 18, 2013, we received a complete substantive response from Appvion within the 30-day deadline applicable under 19 CFR 351.218(d)(3)(i).³ We received no response from any respondent interested party. As a result, pursuant to section 751(c)(3)(B) of the Act and 19 CFR 351.218(e)(1)(ii)(C)(2), the Department conducted an expedited (120-day) sunset review of the AD Order.

² Appvion was formerly known as Appleton Papers Inc. Under that name, Appvion was the petitioner in the underlying less-than-fair-value investigation of lightweight thermal paper from the PRC.

³ As explained in the memorandum from the Assistant Secretary for Enforcement and Compliance, the Department exercised its discretion to toll deadlines for the duration of the closure of the Federal Government from October 1, through October 16, 2013. See Memorandum for the Record from Paul Piquado, Assistant Secretary for Enforcement and Compliance, “Deadlines Affected by the Shutdown of the Federal Government” (October 18, 2013). Therefore, all deadlines in this sunset review have been extended by 16 days.

Scope of the Order

The merchandise covered by the order is lightweight thermal paper. The merchandise subject to the order is currently classified under the following Harmonized Tariff Schedule of the United States (HTSUS) subheadings: 3703.10.60, 4811.59.20, 4811.90.8000, 4811.90.8030, 4811.90.8040, 4811.90.8050, 4811.90.9000, 4811.90.9030, 4811.90.9035, 4811.90.9050, 4811.90.9080, 4811.90.9090, 4820.10.20, and 4823.40.00. While the HTSUS subheadings are provided for convenience and customs purposes, the written description of the scope of the order is dispositive.

For a full description of the scope, see “Issues and Decision Memorandum for the Expedited Sunset Review of the Antidumping Duty Order on Lightweight Thermal Paper from the People's Republic of China,” dated concurrently with this notice (Issues and Decision Memorandum).

Analysis of Comments Received

All issues raised in this review are addressed in the Issues and Decision Memorandum. The issues discussed in the Issues and Decision Memorandum include the likelihood of continuation or recurrence of dumping and the magnitude of the margins likely to prevail if the AD Order were to be revoked. Parties may find a complete discussion of these issues and the corresponding recommendations in this public memorandum which is on file electronically via Enforcement and Compliance's Antidumping and Countervailing Duty Centralized Electronic Services System (IA ACCESS). Access to IA ACCESS is available to registered users at http://iaaccess.trade.gov and is available to all parties in the Central Records Unit, room 7046 of the main Department of Commerce building. In addition, a complete version of the Issues and Decision Memorandum can be accessed directly at http://enforcement.trade.gov/frn. The signed and electronic versions of the Issues and Decision Memorandum are identical in content.

Final Results of Review

We determine that revocation of the AD Order would be likely to lead to continuation or recurrence of dumping and that the magnitudes of the margins of dumping that are likely to prevail are as follows:

Exporter/producer combination | Percent margin
Exporter: Shanghai Hanhong Paper Co., Ltd, also known as Hanhong International Limited/Producer: Shanghai Hanhong Paper Co., Ltd | 115.29
Exporter: Guangdong Guanhao High-Tech Co., Ltd/Producer: Guangdong Guanhao High-Tech Co., Ltd. | 19.77
PRC-Wide Entity | 115.29

Administrative Protective Order

This notice also serves as the only reminder to parties subject to the administrative protective order (APO) of their responsibility concerning the return or destruction of proprietary information disclosed under APO in accordance with 19 CFR 351.305. Timely notification of the return or destruction of APO materials or conversion to judicial protective order is hereby requested. Failure to comply with the regulations and terms of an APO is a violation which is subject to sanction.

This sunset review and notice are in accordance with sections 751(c), 752(c), and 771(i)(1) of the Act and 19 CFR 351.221(c)(5)(ii).

Dated: February 14, 2014.
Paul Piquado,
Assistant Secretary, for Enforcement and Compliance.

[FR Doc. 2014-03708 Filed 2-20-14; 8:45 am]

BILLING CODE 3510-DS-P